DEPARTMENT OF LABOR

Employment and Training Administration

Investigations Regarding Certifications of Eligibility To Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 30, 2008.

Interested persons are invited to submit written comments regarding the subject matter of the investigations to the Director, Division of Trade Adjustment Assistance, at the address shown below, not later than June 30, 2008.

The petitions filed in this case are available for inspection at the Office of the Director, Division of Trade Adjustment Assistance, Employment and Training Administration, U.S. Department of Labor, Room C-5311, 200 Constitution Avenue, NW., Washington, DC 20210.

Signed at Washington, DC, this 11th day of June 2008.
Linda G. Poole,
Certifying Officer, Division of Trade Adjustment Assistance.

Appendix
[TAA petitions instituted between 6/2/08 and 6/6/08]
TA-W | Subject firm (petitioners) | Location | Date of institution | Date of petition
63454 | GM Powertrain (Wkrs) | Bedford, IN | 06/02/08 | 05/22/08
63455 | HSBC Card Services (State) | Salinas, CA | 06/02/08 | 05/30/08
63456 | Mahle Engine Components (UAW) | Muskegon, MI | 06/02/08 | 05/29/08
63457 | MTD Southwest, Inc. (Comp) | Tempe, AZ | 06/02/08 | 05/30/08
63458 | Excello Engineered Systems (Comp) | Macedonia, OH | 06/02/08 | 05/30/08
63459 | Chaco, Inc. (Comp) | Paonia, CO | 06/02/08 | 05/31/08
63460 | AS America (USWA) | Salem, OH | 06/02/08 | 05/30/08
63461 | Logistic Services, Inc. (LSI) (UAW) | Janesville, WI | 06/02/08 | 05/30/08
63462 | Carthage Fabrics, Inc. (Wkrs) | Carthage, NC | 06/03/08 | 05/28/08
63463 | Sun Chemical Company (State) | North Haven, CT | 06/03/08 | 06/02/08
63464 | Dura Automotive Systems (Comp) | Galdwin, MI | 06/03/08 | 05/30/08
63465 | Sara Campbell, Ltd (Comp) | Boston, MA | 06/03/08 | 06/02/08
63466 | Citation Corporation (Comp) | Butler, IN | 06/03/08 | 06/02/08
63467 | JM Eagle (State) | Hastings, NE | 06/03/08 | 06/02/08
63468 | Circor Instrumentation Technologies (State) | Spartanburg, SC | 06/03/08 | 06/02/08
63469 | Ladeer Metal Stamping (Wkrs) | Ladeer, MI | 06/03/08 | 06/01/08
63470 | Intelicoat Technologies (Wkrs) | Portland, OR | 06/03/08 | 06/02/08
63471 | Appleton Coate (Wkrs) | Combined Locks, WI | 06/04/08 | 06/03/08
63472 | Sandberg and Sikorski (Wkrs) | New York, NY | 06/04/08 | 05/29/08
63473 | Whyco Finishing Technologies, LLC (State) | Thomaston, CT | 06/04/08 | 06/03/08
63474 | Anderson Independent Mail (Wkrs) | Anderson, SC | 06/04/08 | 05/23/08
63475 | Biosense Webster (Wkrs) | Irwinday, CA | 06/04/08 | 06/03/08
63476 | Indalex, Inc. (Union) | Modesto, CA | 06/04/08 | 06/03/08
63477 | Kwikset Corporation (Comp) | Denison, TX | 06/04/08 | 06/02/08
63478 | Aleris Rolled Products (Rep) | Bedford, OH | 06/04/08 | 06/02/08
63479 | S. U.S. Cast Products, Inc. (Wkrs) | Logansport, IN | 06/04/08 | 06/02/08
63480 | Mitsubishi Kagaku Imaging Corporation (Comp) | Chesapeake, VA | 06/04/08 | 05/20/08
63481 | Compucom Sytems, Inc.—Help Desk (Comp) | Parsippany, NJ | 06/05/08 | 05/29/08
63482 | Northridge Mills (State) | San Fernando, CA | 06/05/08 | 05/22/08
63483 | Southern Industrial Fabrics (Comp) | Rossville, GA | 06/05/08 | 05/27/08
63484 | Paul Winston Eurostar, LLC (Comp) | New York, NY | 06/05/08 | 05/23/08
63485 | Trans-Ocean Products, Inc. (Comp) | Salem, OR | 06/05/08 | 05/29/08
63486 | Grapevine Staffing, LLC (State) | Creston, IA | 06/05/08 | 06/03/08
63487 | Occidental Chemical Corporation (Comp) | Muscle Shoals, AL | 06/05/08 | 05/30/08
63488 | Schweitzer-Mauduit International, Inc. (Comp) | Lee, MA | 06/05/08 | 06/02/08
63489 | Weastec, Inc. (Wkrs) | Seaman, OH | 06/05/08 | 06/04/08
63490 | Tenneco (Union) | Milan, OH | 06/05/08 | 06/04/08
63491 | Sensus Metering (Wkrs) | Uniontown, PA | 06/06/08 | 06/05/08
63492 | Beverage Air (State) | Spartanburg, SC | 06/06/08 | 06/06/08
63493 | Evergy, Inc. (Comp) | Pawtucket, RI | 06/06/08 | 06/05/08
63494 | Master Industries, Inc. (Comp) | Ansonia, OH | 06/06/08 | 06/05/08
63495 | Nova Knits (Wkrs) | San Francisco, CA | 06/06/08 | 05/23/08
63496 | A. B. Boyd Corporation (Union) | Chino, CA | 06/06/08 | 06/05/08
63497 | Decoro USA, Ltd (Comp) | High Point, NC | 06/06/08 | 05/26/08
63498 | Westland Controls (State) | Westland, MI | 06/06/08 | 06/02/08

[FR Doc. E8-13972 Filed 6-19-08; 8:45 am]

BILLING CODE 4510-FN-P